DEPARTMENT OF ENERGY

Federal Energy Regulatory Commission

Notice of Staff Attendance at Southwest Power Pool Markets and Operations Policy Committee Meeting

The Federal Energy Regulatory Commission hereby gives notice that members of its staff may attend the meeting of the Southwest Power Pool, Inc. Markets and Operations Policy Committee. Their attendance is part of the Commission's ongoing outreach efforts.

The meeting will be held on December 6, 2011, from 8 a.m. to 3: p.m. at the Omni Dallas Hotel Park West, 1590 LBJ Freeway, Dallas, TX 75234. The hotel phone number is (972) 869-4300.

The discussions may address matters at issue in the following proceedings:

Docket No. ER06-451, Southwest Power Pool, Inc.

Docket No. ER08-1419, Southwest Power Pool, Inc.

Docket No. ER09-659, Southwest Power Pool, Inc.

Docket No. ER09-1050, Southwest Power Pool, Inc.

Docket No. ER10-941, Southwest Power Pool, Inc.

Docket No. ER11-2736, Southwest Power Pool, Inc.

Docket No. ER11-2758, Southwest Power Pool, Inc.

Docket No. ER11-2781, Southwest Power Pool, Inc.

Docket No. ER11-2783, Southwest Power Pool, Inc.

Docket No. ER11-2787, Southwest Power Pool, Inc.

Docket No. ER11-2837, Southwest Power Pool, Inc.

Docket No. ER11-3627, Southwest Power Pool, Inc.

Docket No. ER11-3958, Southwest Power Pool, Inc.

Docket No. ER11-3967, Southwest Power Pool, Inc.

Docket No. ER11-4405, Southwest Power Pool, Inc.

Docket No. ER12-5, Southwest Power Pool, Inc.

Docket No. ER12-16, Southwest Power Pool, Inc.

Docket No. ER12-25, Southwest Power Pool, Inc.

Docket No. ER12-74, Southwest Power Pool, Inc.

Docket No. ER12-140. Southwest Power Pool, Inc.

Docket No. ER12-149, Southwest Power Pool, Inc.

Docket No. ER12-227, Southwest Power Pool, Inc.

Docket No. ER12-235, Southwest Power Pool, Inc.

Docket No. ER12-277, Southwest Power Pool, Inc.

Docket No. ER12-430, Southwest Power Pool, Inc.

Docket No. ER12-443, Southwest Power Pool, Inc.

Docket No. ER12-444, Southwest Power Pool, Inc.

Docket No. ER12-455, Southwest Power Pool, Inc.

Docket No. ER12-457, Southwest Power Pool, Inc.

Docket No. ER11-3728, Midwest Independent System Operator, Inc.

Docket No. EL11-34, Midwest Independent System Operator, Inc.

These meetings are open to the public.

For more information, contact Patrick Clarey, Office of Energy Market Regulation, Federal Energy Regulatory Commission at (317) 249-5937 or patrick.clarey@ferc.gov.

Dated: December 1, 2011.
Kimberly D. Bose,
Secretary.

[FR Doc. 2011-31490 Filed 12-7-11; 8:45 am]

BILLING CODE 6717-01-P